DEPARTMENT OF THE INTERIOR

Geological Survey

[GX24GG00995TR00]

Call for Nominations for the Scientific Earthquake Studies Advisory Committee

AGENCY: U.S. Geological Survey, Department of the Interior.

ACTION: Call for nominations.

SUMMARY: The Department of the Interior is seeking nominations to serve on the Scientific Earthquake Studies Advisory Committee (SESAC). The SESAC advises the Director of the U.S. Geological Survey (USGS) on matters relating to the USGS's participation in the National Earthquake Hazards Reduction Program (NEHRP).

DATES: All nominations must be received no later than June 7, 2024.

ADDRESSES: Send nominations electronically to ghayes@usgs.gov or by mail to Dr. Gavin Hayes, U.S. Geological Survey, U.S. Department of the Interior, PO Box 25046, MS-966, Denver, Colorado 80225.

FOR FURTHER INFORMATION CONTACT: Dr. Gavin Hayes, U.S. Geological Survey, U.S. Department of the Interior, P.O. Box 25046, MS-966, Denver, Colorado 80225, ghayes@usgs.gov, 303-273-8421.

SUPPLEMENTARY INFORMATION: The SESAC conducts its operations in accordance with the provisions of the Federal Advisory Committee Act. The SESAC provides recommendations and advice to the Director of the USGS (Director), and functions solely as an advisory body. The SESAC advises the Director on matters relating to USGS's participation in the NEHRP, including the USGS's roles, goals, and objectives within the NEHRP, its capabilities and research needs, guidance on achieving major objectives, and establishing and measuring performance goals.

The SESAC includes up to 10 members not employed by the Federal Government, who are qualified in the seismic sciences and other appropriate fields involved in national earthquake research activities. Selection of individuals for the SESAC shall be based solely on established records of distinguished service, and the Director shall ensure that a reasonable cross-section of views and expertise is represented. Members are appointed as a special Government employees (SGEs) and will be required, prior to appointment, to file a Confidential Financial Disclosure Report in order to avoid involvement in real or apparent conflicts of interest. You may find a copy of the Confidential Financial Disclosure Report at the following website: https://www.doi.gov/ethics/special-government-employees/financial-disclosure. Additionally, after appointment, members appointed as SGEs will be required to meet applicable financial disclosure and ethics training requirements. Please contact 202-208-7960 or DOI_Ethics@sol.doi.gov with any questions about the ethics requirements for members appointed as SGEs.

In selecting individuals to serve on the SESAC, the Director shall seek and give due consideration to recommendations from the National Academy of Sciences, professional societies, and other appropriate organizations. SESAC members are appointed for staggered terms to ensure continuity. Nominations received through this call may be used to fill future vacancies on the SESAC. Nominations will be reviewed by the USGS, and additional information may be requested from nominees. Final selection and appointment of SESAC members will be made by the Director.

The SESAC meets approximately 1-2 times per year. SESAC members will serve without compensation, but travel and per diem costs will be provided by the USGS. The USGS will also provide necessary support services to the SESAC. SESAC meetings are open to the public.

Nominations may come from individuals, employers, associations, professional organizations, or other geospatial organizations. Nominations should include a resume or curriculum vitae providing an adequate description of the nominee's qualifications sufficient for the USGS to make an informed decision regarding meeting the membership requirements of the SESAC and permit the nominated person to be contacted. Nominations may optionally include supporting letters from employers, associations, professional organizations, and/or other organizations.

Additional information about the SESAC and the nomination process is posted on the SESAC web page.

Authority: 5 U.S.C. ch. 10.

Gary Latzke,
Chief of Staff, Natural Hazards Mission Area, U.S. Geological Survey.

[FR Doc. 2024-09992 Filed 5-7-24; 8:45 am]

BILLING CODE 4338-11-P